DEPARTMENT OF AGRICULTURE

Commodity Credit Corporation

Agricultural Water Enhancement Program

AGENCY: Commodity Credit Corporation (CCC) and Natural Resources Conservation Service (NRCS), Department of Agriculture (USDA).

ACTION: Notice of request for proposals; reopening of proposal submission period.

SUMMARY: The Commodity Credit Corporation (CCC) published in the Federal Register of January 14, 2009, a Notice of Request for Proposals to announce the availability of funds and to solicit proposals from potential partners who seek to enter into partnership agreements with the Chief, Natural Resources Conservation Service (NRCS). The deadline for submitting proposals was March 2, 2009. The purpose of this notice is to reopen the deadline for submitting proposals and to provide NRCS State Conservationists up to 2 weeks following the proposal submission deadline to submit their letter of review. The CCC is hereby reopening the deadline for submitting proposals until April 1, 2009.

DATES: The proposal submission deadline is reopened and extended to April 1, 2009. The deadline for NRCS State Conservationists to submit their letters of proposal review is extended to April 15, 2009

ADDRESSES: Proposals should be submitted to the Chief (Attn: Financial Assistance Programs Division), Natural Resources Conservation Service, USDA, AWEP Proposals, P.O. Box 2890, Washington, DC 20013 by April 1, 2009. Applicants also must send their proposal to the appropriate State Conservationist(s) postmarked, or dated if electronic, no later than April 1, 2009. To submit your application electronically, visit http://www.grants.gov/apply and follow the on-line instructions.

FOR FURTHER INFORMATION CONTACT: Gregory Johnson, Director, Financial Assistance Programs Division, U.S. Department of Agriculture, Natural Resources Conservation Service, Room 5237, P.O. Box 2890, Washington, DC 20013-2890. Phone: (202) 720-1845. Fax: (202) 720-4265.

Persons with disabilities who require alternative means for communication (Braille, large print, audiotape, etc.) should contract the USDA Target Center at (202) 720-2600 (voice and TDD).

SUPPLEMENTARY INFORMATION: The CCC, published a Notice of Requests for Proposals in the Federal Register of January 14, 2009 (74 FR 2040), announcing funding availability and to potential partners, the opportunity to enter into Agricultural Water Enhancement Program (AWEP) partnership agreements with the Chief, NRCS, to promote the conservation of ground and surface water and the improvement of water quality. This notice announced a deadline of March 2, 2009, to submit proposals to enter into AWEP partnership agreements and required NRCS State Conservationists to submit letters of proposal review to the NRCS National Headquarters by March 2, 2009.

The CCC hereby amends the January 14 Notice of Requests for Proposals by:

1. Reopening and extending the proposal submission deadline to April 1, 2009; and

2. Extending the deadline for NRCS State Conservationists to submit their letters of proposal review to April 15, 2009.

Signed this 23rd day of March, 2009, in Washington, DC.
Dave White,
Acting Vice President, Commodity Credit Corporation and Acting Chief, Natural Resources Conservation Service.

[FR Doc. E9-6763 Filed 3-25-09; 8:45 am]

BILLING CODE 3410-16-P